ENVIRONMENTAL PROTECTION AGENCY

[CERCLA-02-2022-2004; FRL-9294-01-R2]

Proposed CERCLA Section 122(h) Settlement Agreement for the Maywood Chemical Superfund Site, Boroughs of Maywood and Lodi, and the Township of Rochelle Park, Bergen County, New Jersey

AGENCY: Environmental Protection Agency.

ACTION: Notice; request for public comment.

SUMMARY: In accordance with the Comprehensive Environmental Response, Compensation and Liability Act of 1980, as amended (“CERCLA”), notice is hereby given by the U.S. Environmental Protection Agency (“EPA”), Region 2, of a proposed settlement agreement (“Agreement”) with Jeco Corporation for the Maywood Chemical Superfund Site (“Site”), Boroughs of Maywood and Lodi, and the Township of Rochelle Park, Bergen County, New Jersey.

DATES: Comments must be submitted on or before January 3, 2022.

ADDRESSES: Comments can be sent via email to Kathryn DeLuca at deluca.kathryn@epa.gov. Comments should reference the Maywood Chemical Superfund Site, CERCLA Section 122(h) Agreement, Index No. CERCLA-02-2022-2004. The proposed settlement is available for public inspection at this website: https://semspub.epa.gov/src/document/02/625503.

FOR FURTHER INFORMATION CONTACT: Kathryn DeLuca, Attorney, Office of Regional Counsel, U.S. Environmental Protection Agency. Email: deluca.kathryn@epa.gov. Telephone: 212-637-3171.

SUPPLEMENTARY INFORMATION: Under the proposed Agreement, Jeco Corporation agrees to reimburse EPA for $125,500 in past and future oversight costs incurred in connection with radiological contamination at the property owned by Jeco Corporation that is part of the Site, located at 149-151 Maywood Avenue, Borough of Maywood and Township of Rochelle Park, Bergen County, New Jersey, designated as Block 124, Lot 30 in the Borough of Maywood and Block 17.02, Lot 1 in the Township of Rochelle Park on the tax map of Bergen County, New Jersey (“Jeco Property”). The Agreement also resolves EPA's Federal lien on the Jeco Property arising under Section 107(l) of CERCLA, 42 U.S.C. 9607(1).

For thirty (30) days following the date of publication of this document, EPA will receive written comments relating to the proposed Agreement. EPA will consider all comments received and may modify or withdraw its consent to the proposed Agreement if comments received disclose facts or considerations that indicate that the proposed Agreement is inappropriate, improper, or inadequate. EPA's response to any comments received will be available for public inspection online and/or at EPA Region 2, 290 Broadway, New York, New York 10007-1866.

John Prince,
Acting Director, Superfund & Emergency Management Division, Environmental Protection Agency, Region 2.

[FR Doc. 2021-26284 Filed 11-30-21; 4:15 pm]

BILLING CODE 6560-50-P